DEPARTMENT OF COMMERCE

National Oceanic and Atmospheric Administration

50 CFR Part 635

[Docket No. 020325069-2069-01; I.D. 071299C]

RIN 0648-AM91

Atlantic Highly Migratory Species (HMS) Fishing Vessel Permits; Charter Boat Operations

Correction

In proposed rule document 02-10341 beginning on page 20716 in the issue of Friday, April 26, 2002, make the following corrections:

1. On page 20716, in the second column, under the DATES heading, in the third line, “May 28, 2002” should read “May 23, 2002”.

2. On the same page, in the same column, under the same heading, “May 28, 2002” should read “May 23, 2002”

[FR Doc. C2-10341 Filed 5-1-02; 8:45 am]

BILLING CODE 1505-01-D